DEPARTMENT OF LABOR

Employment and Training Administration

[TA-W-73,756]

Progressive Furniture, Inc.; a Subsidiary of Sauder Furniture, Claremont, North Carolina; Notice of Revised Determination on Reconsideration

On August 13, 2010, the Department issued an Affirmative Determination Regarding Application for Reconsideration applicable to workers and former workers of Progressive Furniture, Inc., a Subsidiary of Sauder Furniture, Claremont, North Carolina to apply for Trade Adjustment Assistance (TAA). The Department's Notice of Affirmative Determination was published in the Federal Register on November 12, 2010 (75 FR 69468). Workers at the subject firm are engaged in employment related to the supply of decommissioning services for Progressive Furniture.

Workers of Progressive Furniture producing wooden furniture were certified eligible to apply for TAA on the basis of increased company imports of articles like or directly competitive with those manufactured by the worker group at the subject firm.

During the reconsideration investigation, the Department determined that the workers at Progressive Furniture, Inc., a Subsidiary of Sauder Furniture, Claremont, North Carolina, who are engaged in employment related to the supply of decommissioning services, have met the criteria of Section 222(a).

Conclusion

After careful review of the facts provided during the initial investigation, I determine that workers of Progressive Furniture, Inc., Claremont, North Carolina, who are engaged in employment related to the supply of decommissioning services, meet the worker group certification criteria under Section 222(a) of the Act, 19 U.S.C. 2272(a). In accordance with Section 223 of the Act, 19 U.S.C. 2273, I make the following certification:

“All workers of Progressive Furniture, Inc., a Subsidiary of Sauder Furniture, Claremont, North Carolina, who became totally or partially separated from employment on or after March 19, 2009, through two years from the date of this revised certification, and all workers in the group threatened with total or partial separation from employment on date of certification through two years from the date of certification, are eligible to apply for adjustment assistance under Chapter 2 of Title II of the Trade Act of 1974, as amended.”

Signed in Washington, DC, this 21st day of January, 2011.
Del Min Amy Chen,
Certifying Officer, Office of Trade Adjustment Assistance.

[FR Doc. 2011-2247 Filed 2-1-11; 8:45 am]

BILLING CODE 4510-FN-P